DEPARTMENT OF COMMERCE

Foreign-Trade Zones Board

Order No. 1473

Expansion of Foreign-Trade Zone 176, Rockford, Illinois, Area

Pursuant to its authority under the Foreign-Trade Zones Act of June 18, 1934, as amended (19 U.S.C. 81a-81u), the Foreign-Trade Zones Board (the Board) adopts the following Order:

Whereas, the Greater Rockford Airport Authority, grantee of FTZ 176, submitted an application to the Board for authority to expand FTZ 176 to include a site (Site 7 - 133 acres) at the Crossroads Commerce Center, Rochelle, adjacent to the Rockford Customs port of entry (FTZ Docket 66-2005; filed 12/21/05);

Whereas, notice inviting public comment was given in the Federal Register (71 FR 326, 1/4/06), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 176 is approved, subject to the FTZ Act and the Board's regulations, including Section 400.28, and subject to a sunset provision that would terminate further authority for the proposed site on September 1, 2011, unless the site is activated under FTZ procedures before that date.

Signed at Washington, DC, this 3rd day of August 2006.

David M. Spooner,
Assistant Secretary of Commerce, for Import Administration, Alternate Chairman, Foreign-Trade Zones Board.
Attest:
Andrew McGilvray,
Acting Executive Secretary.

[FR Doc. E6-13601 Filed 8-16-06; 8:45 am]

BILLING CODE 3510-DS-S